DEPARTMENT OF TRANSPORTATION

Federal Aviation Administration

Public Notice for Waiver of Aeronautical Land-Use Assurance Dupont-Lapeer Airport, Lapeer, MI

AGENCY: Federal Aviation Administration, DOT.

ACTION: Notice of intent of waiver with respect to land.

SUMMARY: The Federal Aviation Administration (FAA) is considering a proposal to change a portion of the Dupont Lapeer Airport from aeronautical use to non-aeronautical use and to authorize the sale of the airport property. The proposal consists of the sale of vacant, unimproved land owned by the Dupont-Lapeer Airport Board (Board).

The Board has requested from FAA a “Release from Federal agreement obligated land covenants” to sell one (1) parcel of property acquired by the Board with Federal funding under the Airport Improvement Program, State Block Grant No. B-26-0056-0196.

There are no impacts to the airport by allowing the Board to dispose of the vacant property. Approval does not constitute a commitment by the FAA to financially assist in the disposal of the airport property nor a determination of eligibility for grant-in-aid funding from the FAA. The disposition of proceeds from the disposal of the airport property will be in accordance with FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before February 18, 2010.

ADDRESSES: Mr. David J. Welhouse, Program Manager, Detroit Airports District Office, 11677 South Wayne Road, Suite 107, Romulus, Michigan 48174.

FOR FURTHER INFORMATION CONTACT: Mr. David J. Welhouse, Program Manager, Detroit Airports District Office, 11677 South Wayne Road, Suite 107, Romulus, Michigan 48174. Telephone Number (734) 229-2952/FAX Number (734) 229-2950. Documents reflecting this FAA action may be reviewed at this same location or at the Michigan Department of Transportation, Airports Division, 2700 Port Lansing Road, Lansing, Michigan.

SUPPLEMENTARY INFORMATION: Following is a legal description of the property located in Mayfield Township, Lapeer County, Michigan, and described as follows:

Description of Parcel Being Released (4.45 Acres)

A part of the SE ¼ of the Section 34, T.8N., R.10E., Mayfield Township, Lapeer County, Michigan; more particularly described as commencing at the south ¼ corner of said Section 34, thence south 89 degrees 47 minutes 28 seconds east 762.00 feet along the south line of said Section, thence north 00 degrees 10 minutes 20 seconds east 472.58 feet to the Point of Beginning, thence north 89 degrees 47 minutes 50 seconds west 300.00 feet, thence north 00 degrees 10 minutes 20 seconds east 647.67 feet, thence south 63 degrees 02 minutes 20 seconds east 264.38 feet, thence north 00 degrees 10 minutes 20 seconds east 1011.77 feet, thence south 89 degrees 45 minutes 52 seconds east 30.00 feet, thence south 00 degrees 10 minutes 20 seconds west 1030.22 feet, thence south 03 degrees 38 minutes 24 seconds east 511.32 feet to the Point of Beginning, containing 4.45 acres more or less.

Issued in Romulus, Michigan on December 18, 2009.
John L. Mayfield, Jr.,
Acting Manager, Detroit Airport, FAA, Great Lakes Region.

[FR Doc. 2010-683 Filed 1-15-10; 8:45 am]

BILLING CODE 4910-13-M